DEPARTMENT OF TRANSPORTATION

Federal Highway Administration

23 CFR Part 140

RIN 2125-AE76

Temporary Matching Fund Waiver

AGENCY: Federal Highway Administration (FHWA), DOT.

ACTION: Final rule; rescission of regulation.

SUMMARY: This document rescinds the regulation that prescribes procedures for administering section 1054 of the Intermodal Surface Transportation Efficiency Act of 1991 (ISTEA) providing for a temporary waiver of State matching fund requirements. Since the period of this special provision has expired, and all money has been repaid, the regulation is obsolete.

DATES: This rule is effective July 26, 2000.

FOR FURTHER INFORMATION CONTACT: Mr. Max Inman, Federal-aid Financial Management Division, (202) 366-2583 or Mr. Steve Rochlis, Office of the Chief Counsel, (202) 366-1395, Federal Highway Administration, 400 Seventh Street, SW., Room 4310, Washington, DC 20590. Office hours are from 7:45 a.m. to 4:15 p.m., e.t., Monday through Friday, except Federal holidays.

SUPPLEMENTARY INFORMATION:

Electronic Access

An electronic copy of this document may be downloaded using a modem and suitable communications software from the Government Printing Office's Electronic Bulletin Board Service (202) 512-1661. Internet users may reach the Office of the Federal Register's home page at http://www.nara.gov/fedreg and the Government Printing Office's database at http://www.access.gpo.gov/nara.

Background

Under the provisions of section 1054 of the ISTEA, Public Law 102-240, 105 Stat. 1914, at 2001 (23 U.S. Code. 120 note), a State could request an increased Federal share up to 100 percent for any qualifying title 23, U.S. Code, project beginning October 1, 1991, and ending September 30, 1993. The total amount of any such increase had to be repaid to the United States on or before March 30, 1994. If a State did not make the required repayment by March 30, 1994, the Secretary of Transportation could make deductions from funds apportioned to the States for fiscal years 1995 and 1996. Since the period of this special provision has expired, and all money has been repaid, it is no longer necessary to have this particular regulation.

Rulemaking Analyses and Notices

This final rule makes only minor technical corrections to our existing regulation. The rule replaces outdated statutory language due to the expiration of a special provision under ISTEA granting States temporary matching fund waiver and requiring repayment by March 30, 1994. Because the Congress did not enact a similar matching fund waiver in the Transportation Equity Act for the 21st Century (TEA-21), (Pub. L. 105-178, 112 Stat. 107 (1998) or any other statute, there is no need for the provision in the current regulations. Therefore, the FHWA finds good cause to rescind the rule without prior notice or opportunity for public comment [5 U.S.C. 553(b)]. The DOT's regulatory policies and procedures also authorize rescission of the rule without prior notice because it is anticipated that such action would not result in the receipt of useful information. The FHWA is making the rule effective upon publication in the Federal Register because it imposes no new burdens and merely rescinds an existing regulation that has become obsolete.

Executive Order 12866 (regulatory Planning and Review) and DOT Regulatory Policies and Procedures

The FHWA has considered the impact of this action and has determined that it is not a significant regulatory action within the meaning of Executive Order 12866 or a significant within the meaning of the Department of Transportation regulatory policies and procedures. Since this rulemaking action merely removes an obsolete regulation, it is anticipated that its economic impact is minimal; therefore, a full regulatory evaluation is not required.

Regulatory Flexibility Act

In compliance with the Regulatory Flexibility Act (5 U.S.C. 601-612), the FHWA has evaluated the effects of this action on small entities. Based on the evaluation, and since this rulemaking action merely removes an outdated regulation, the FHWA hereby certifies that this action will not have a significant economic impact on a substantial number of small entities. In any event, States are not included in the definition of “small entity” set forth in 5 U.S.C. 601. Therefore, this action will not have a significant economic impact on a substantial number of small entities for purposes of the Regulatory Flexibility Act.

Unfunded Mandates Reform Act of 1995

This action does not impose a Federal mandate resulting in the expenditure by State, local, tribal governments, in the aggregate, or by the sector, of $100 million or more in any year. (2 U.S.C. 1531 et seq.)

Executive Order 12988 (Civil Justice Reform)

This action meets applicable standards in sections 3(a) and 3(b) of Executive Order 12988, Civil Justice Reform, to minimize litigation, eliminate ambiguity, and reduce burden.

Executive Order 13045 (Protection of Children)

We have analyzed this action under Executive Order 13045, Protection of Children from Environmental Health Risks and Safety Risks. This action does not involve an economically significant rule and does not concern an environmental risk to health or safety that may disproportionately affect children.

Executive Order 12630 (Taking of Private Property)

This action will not effect a taking of private property or otherwise have taking implications under Executive Order 12630, Governmental Actions and Interference with Constitutionally Protected Property Rights.

Executive Order 13132 (Federalism)

This action has been analyzed in accordance with the principles and criteria contained in Executive Order 13132, dated August 4, 1999, and it has been determined that this action does not have a substantial direct effect or sufficient federalism implications on States that would limit policymaking discretion of the States. Nothing in this document directly preempts any State law or regulation.

Executive Order 12372 (Intergovernmental Review)

Catalog of Domestic Assistance Program Number 20.205, Highway Planning and Construction. The regulations implementing Executive Order 12372 regarding intergovernmental consultation of Federal programs and activities apply to this program.

Paperwork Reduction Act

This action does not create a collection of information requirement for the purposes of the Paperwork Reduction Act of 1995, 44 U.S.C. 3501 et seq.

National Environmental Policy Act

The FHWA has analyzed this action for the purposes of the National Environmental Policy Act of 1969, as amended (42 U.S.C. 4321 et seq.) and has determined that it would not have any effect on the quality of the environment. Therefore, an environmental impact statement is not required.

Regulatory Identification Number

A regulation identification number (RIN) is assigned to each regulatory action listed in the Unified Agenda of Federal Regulations. The Regulatory Information Service Center publishes the Unified Agenda in April and October of each year. The RIN number contained in the heading of this document can be used to cross-reference this action with the Unified Agenda.

List of Subjects in 23 CFR Part 140

Accounting, Grant programs—transportation, Highways and roads.

Issued on: July 17, 2000.
Kenneth R. Wykle,
Federal Highway Administrator.

In consideration of the foregoing, the FHWA amends title 23, Code of Federal Regulations, part 140, as set forth below:

PART 140—REIMBURSEMENT

1. The authority citation for part 140 continues to read as follows:

Authority: 23 U.S.C. 101(e), 106, 109(e), 114(a), 120(g), 121, 122, 130, and 315; and 49 CFR 1.48(b).

Subpart C—[Removed and Reserved]

2. Remove and reserve subpart C of part 140.

[FR Doc. 00-18685 Filed 7-25-00; 8:45 am]

BILLING CODE 4910-22-P